GENERAL SERVICES ADMINISTRATION

[OMB Control No. 3090-XXXX; Docket No. 2023-0001; Sequence No. 2]

Submission for OMB Review; Living Quarters Eligibility Questionnaire; GSA Form 5039

AGENCY: Office of Human Resource Management, Division of Human Capital Policy and Programs, General Services Administration (GSA).

ACTION: Notice of request for comments regarding a request for a new OMB clearance.

SUMMARY: Under the provisions of the Paperwork Reduction Act, the Regulatory Secretariat Division will be submitting to the Office of Management and Budget (OMB) a request to review and approve a new information collection requirement.

DATES: Submit comments on or before October 20, 2023.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Colin C. Bennett, Human Resources Specialist, Office of Human Resources Management, Division of Human Capital Policy and Programs, at telephone 240-418-6822 or via email to colin.bennett@gsa.gov for clarification of content.

SUPPLEMENTARY INFORMATION:

A. Purpose

The General Services Administration routinely hires, reassigns, promotes, or transfers Federal employees to duty stations in foreign areas (i.e., outside of the United States and its territories and possessions). Civilian employees located in foreign areas are eligible for different compensation authorities compared to employees located in the United States or its territories or possessions. Besides basic pay, certain foreign allowances are often used as recruitment or retention incentives to make foreign service more economically feasible. One type of allowance is called a “living quarters allowance,” or “LQA,” and allows an agency to reimburse the cost of rental housing as well as utilities (such as electricity, natural gas, and water service). Under this authority (conveyed by the Overseas Differentials and Allowances Act of 1960, Pub. L. 86-707, Sept. 6, 1960, codified at 5 U.S.C. 5923(a)(2)), not all job candidates or overseas employees are necessarily eligible (for example, if Government-provided housing is made available). In addition, for those job candidates eligible, the amount of the benefit varies by rank (i.e., GS grade), presence overseas with or without family, and overall family size. Detailed rules concerning eligibility and other matters are found in the State Department's Department of State Standardized Regulations, sections 031.12 and chapter 130.

To more effectively administer LQA, the General Services Administration (GSA) has created a new agency form, GSA Form 5039, Living Quarters Allowance Eligibility Questionnaire. This form collects basic demographic and housing-related information and also includes questions meant to coordinate housing benefits between the U.S. military and other Federal agencies (for example, if two spouses work for different Federal agencies). Individuals who complete this pre-employment questionnaire are considered job candidates and may be members of the public (if not already Federal civilian employees). The purpose of the data collection from job candidates is to ensure that eligible applicants receive allowance consideration, in the correct amounts based on the position and family size, and ineligible candidates are not erroneously provided with this significant monetary benefit.

B. Annual Reporting Burden

Respondents: 25 per year.

Responses per Respondent: 1.

Total Annual Responses: 25.

Hours per Response: 1.

Total Burden Hours: 25.

C. Public Comments

A notice published in the Federal Register at 88 FR 16447 on March 17, 2023. No comments were received.

Obtaining Copies of Proposals: While the proposed GSA Form 5039 is not included within this article's publication, a copy of the form can be obtained through the Regulatory Secretariat Division by calling 202-501-4755 or emailing GSARegSec@gsa.gov. Please cite OMB Control No. 3090-XXXX, Living Quarters Allowance Eligibility Questionnaire; GSA Form 5039, in all correspondence.

Lesley Briante,
Acting Deputy Chief Information Officer.

[FR Doc. 2023-20387 Filed 9-19-23; 8:45 am]

BILLING CODE 6820-FM-P